DEPARTMENT OF COMMERCE

National Oceanic and Atmospheric Administration

[RTID 0648-XE223]

Marine Fisheries Advisory Committee Meeting

AGENCY: National Marine Fisheries Service (NMFS), National Oceanic and Atmospheric Administration (NOAA), Commerce.

ACTION: Notice of open public meeting.

SUMMARY: This notice sets forth the proposed schedule and agenda of a forthcoming meeting of the Marine Fisheries Advisory Committee (MAFAC). The members will discuss and provide advice on issues outlined under the SUPPLEMENTARY INFORMATION section below.

DATES: The meeting will be held September 10-12, 2024. Daily start and end times are (in Alaska Time):

• Tuesday, September 10, 2024 from 9 a.m. to 5:30 p.m.

• Wednesday, September 11, 2024 from 8:30 a.m. to 4:45 p.m.

• Thursday, September 12, 2024 from 8:30 a.m. to 5:30 p.m.

ADDRESSES: The meeting is being held at the Kodiak Area Native Association Marketplace, 111 Rezanof Dr. W, Kodiak, AK 99615. Conference call and webinar access information are available at: https://www.fisheries.noaa.gov/event/september-2024-marine-fisheries-advisory-committee-meeting. Public comment may be provided to MAFAC by one of the following methods: (1) submitting written comments in advance of the MAFAC public meeting to katie.zanowicz@noaa.gov, with “September 2024 MAFAC” in the subject line of the email message, or (2) providing oral public comment during the meeting at the time allotted on the posted agenda.

FOR FURTHER INFORMATION CONTACT: Katie Zanowicz, MAFAC Assistant, 301-427-8038, katie.zanowicz@noaa.gov.

SUPPLEMENTARY INFORMATION: As required by section 10(a)(2) of the Federal Advisory Committee Act, 5 U.S.C. appendix 2, notice is hereby given of a meeting of MAFAC. The MAFAC was established by the Secretary of Commerce (Secretary) and, since 1971, advises the Secretary on all living marine resource matters that are the responsibility of the Department of Commerce. The charter, summaries of prior meetings, and MAFAC recommendations and reports are located online at https://www.fisheries.noaa.gov/topic/partners/marine-fisheries-advisory-committee.

Matters To Be Considered

The meeting time and agenda are subject to change. The meeting is convened to hear presentations and discuss policies and guidance on the following topics: climate-ready fisheries and climate impacts to seafood businesses, industry, and communities in Alaska; climate science work in Alaska; equity and environmental justice; and recreational fisheries. MAFAC will also receive other NOAA Fisheries program updates and discuss various administrative and organizational matters.

Time and Date

The meeting will be held September 10-12, 2024. Conference call and webinar access information are available at: https://www.fisheries.noaa.gov/event/september-2024-marine-fisheries-advisory-committee-meeting. Daily start and end times are noted in the DATES section above.

Special Accommodations

This meeting is accessible to people with disabilities. Requests for sign language interpretation or other auxiliary aids should be directed to Katie Zanowicz, (301) 427-8038, by August 29, 2024.

Dated: August 21, 2024.
Heidi Lovett,
Designated Federal Officer, Marine Fisheries Advisory Committee, National Marine Fisheries Service.

[FR Doc. 2024-19126 Filed 8-23-24; 8:45 am]

BILLING CODE 3510-22-P